DEPARTMENT OF TRANSPORTATION

Federal Aviation Administration

14 CFR Part 21

Notice of Intent To Designate as Abandoned Normal Category Type Certificate: Silvercraft S.co.p.a., Type Certificate No. H2EU

AGENCY: Federal Aviation Administration (FAA), DOT.

ACTION: Notice of intent to designate Silvercraft S.p.A. type certificate issued in the normal category as abandoned; request for comments.

SUMMARY: This notice announces the FAA's intent to designate Silvercraft S.co.p.a. (Silvercraft) Type Certificate (TC) H2EU, issued in the normal category, as abandoned. The FAA has been unable to locate Silvercraft, the TC holder, concerning the continued airworthiness of the aircraft certificated under its TC. The Federal Aviation Regulations (regulations) require that TC holders report certain failures, malfunctions, and defects to the FAA. The regulations also require, upon request, that TC holders submit design changes to the FAA that are necessary to correct any unsafe condition in their products. The FAA is responsible for surveillance of Silvercraft's ability to perform continued operational safety management and oversight of the helicopter on its TC. This action is intended to ensure that Silvercraft Model SH-4 helicopters are under a TC that has active continued operational safety management and oversight by a TC holder that can be subject to periodic safety audits by the FAA.

DATES: Comments must be received on or before March 21, 2016.

ADDRESSES: Comments on this notice must be submitted to the Federal Aviation Administration, Rotorcraft Standards Staff, ASW-110, Rotorcraft Directorate, 10101 Hillwood Pkwy., Fort Worth, Texas 76177; fax: (817) 222-5961.

FOR FURTHER INFORMATION CONTACT: Tyrone D. Millard, Aerospace Engineer, FAA, Rotorcraft Directorate, Aircraft Certification Service, 10101 Hillwood Pkwy., Fort Worth, Texas 76177; telephone: (817) 222-5439; email: tyrone.d.millard@faa.gov.

SUPPLEMENTARY INFORMATION:

Comments Invited

Interested parties are invited to provide comments, written data, views, or arguments relating to this notice. Comments should be submitted to the address specified above. All comments received on or before the closing date will be considered. All comments received will be available in the docket for examination by interested persons. Comments may be inspected at the office of the FAA, Rotorcraft Standards Staff, Rotorcraft Directorate, 5th Floor, 10101 Hillwood Pkwy, Fort Worth, Texas, between 9 a.m. and 4 p.m. Monday through Friday, except Federal holidays.

Discussion

This notice is intended to inform the public that the FAA intends to designate Silvercraft Type Certificate H2EU, issued in the normal category, as abandoned and that no additional original airworthiness certificates will be issued against Type Certificate H2EU.

On September 8, 1968, Registro Aeronautico Italiano (now Ente Nazionale per l'Aviazione Civile) issued Silvercraft an Italian TC. On September 11, 1968, the FAA issued TC H2EU for Model SH-4 helicopters to Silvercraft S.co.p.a., Via Carlo Alberto n. 42, 14049 Nissa Monfferrato (At), Italy. On May 2, 2011, the European Aviation Safety Agency (EASA), which is the Technical Agent for the Member States of the European Union, revoked Silvercraft's TC SO/A-145. The reason for the revocation is Silvercraft's failure to apply for a design organization approval or an alternative, which is required as an EASA TC holder. Additionally, Silvercraft has failed to respond to all communications from EASA.

As a result of the information provided by EASA, the FAA sent a registered letter to Silvercraft dated February 27, 2015, informing the company that we intend to classify TC H2EU as abandoned unless, within 60 days of receipt of the letter, we receive a written statement from them stating they are the holder of TC H2EU. The FAA has also attempted to make contact with Silvercraft by other means including telephone communication and internet searches but without success. A review of the FAA National Aircraft Registration Database confirms that there are no U.S.- registered SH-4 helicopters.

The basis for issuance of a TC not only includes the applicant's submittal of various reports and data, but also the submittal of information about periodic inspections and maintenance to assure the continued operational safety of the helicopter. Among other regulatory requirements, 14 CFR 21.3 requires TC holders to report certain failures, malfunctions, and defects to the FAA; and 14 CFR 21.99 requires that TC holders submit design changes that are necessary to correct any unsafe condition in its products. Silvercraft is obligated to meet these requirements for all aircraft under its TC.

The FAA is responsible for surveillance of a TC holder's ability to perform continued operational safety management and oversight of each helicopter on its TC. The FAA continues to monitor the safety performance of a helicopter type design after the aircraft is approved and placed into service. This is accomplished through post-certification review of TC holder data, review of service difficulty reports, communication with aircraft owners and operators, and other information provided by a TC holder. Periodic safety audits cannot be accomplished if the TC holder cannot be located. To date, the FAA has been unsuccessful in all attempts to locate Silvercraft.

Hence, the FAA proposes to flag TC H2EU and consider it abandoned. This notice informs the public that the FAA intends to designate TC H2EU as abandoned and no additional original airworthiness certificates will be issued against that TC. This action is not intended as a surrender, suspension, revocation, or termination of the TC as those terms are used in 14 CFR part 21. However, this action is intended to ensure that each Silvercraft Model SH-4 helicopter is under a TC that has active continued operational safety management and oversight by a TC holder that can be subject to periodic safety audits by the FAA.

Issued in Fort Worth, Texas on September 10, 2015.
James A. Grigg,
Acting Manager, Rotorcraft Directorate, Aircraft Certification Service.

[FR Doc. 2015-24098 Filed 9-21-15; 8:45 am]

BILLING CODE 4910-13-P